DEPARTMENT OF TRANSPORTATION

Federal Aviation Administration

14 CFR Part 39

[Docket No. FAA-2008-0408; Directorate Identifier 2008-NM-068-AD; Amendment 39-15458; AD 2008-08-06]

RIN 2120-AA64

Airworthiness Directives; Bombardier Model CL-600-1A11 (CL-600), CL-600-2A12 (CL-601), CL-600-2B16 (CL-601-3A, CL-601-3R, & CL-604 (Including CL-605 Marketing Variant)) Airplanes, and Model CL-600-2B19 (Regional Jet Series 100 & 440) Airplanes

AGENCY: Federal Aviation Administration (FAA), Department of Transportation (DOT).

ACTION: Final rule; request for comments.

SUMMARY: The FAA is superseding an existing airworthiness directive (AD) that applies to all Bombardier Model CL-600-2B19 (Regional Jet Series 100 & 440) airplanes and Model CL-600-1A11 (CL-600), CL-600-2A12 (CL-601), and CL-600-2B16 (CL-601-3A, CL-601-3R, and CL-604) series airplanes. The existing AD currently requires revising the airplane flight manuals (AFMs) to include a new cold weather operations limitation. This AD requires revising the AFMs to modify the cold weather operations limitation and include additional limitations and procedures. This AD results from reports of uncommanded roll during take-off. We are issuing this AD to prevent possible loss of control on take-off resulting from even small amounts of frost, ice, snow, or slush on the wing leading edges or forward upper wing surfaces.

DATES: This AD becomes effective April 21, 2008.

The Director of the Federal Register approved the incorporation by reference of certain publications listed in the AD as of April 21, 2008.

On February 22, 2005 (70 FR 8025, February 17, 2005), the Director of the Federal Register approved the incorporation by reference of certain other publications.

We must receive any comments on this AD by May 14, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Bombardier, Inc., Canadair, Aerospace Group, P.O. Box 6087, Station Centre-ville, Montreal, Quebec H3C 3G9, Canada.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Bruce Valentine, Aerospace Engineer, Systems and Flight Test Branch, ANE-172, FAA, New York Aircraft Certification Office, 1600 Stewart Avenue, Suite 410, Westbury, New York 11590; telephone (516) 228-7328; fax (516) 794-5531.

SUPPLEMENTARY INFORMATION:

Discussion

On February 10, 2005, the FAA issued AD 2005-04-07, amendment 39-13979 (70 FR 8025, February 17, 2005). That AD applies to all Bombardier Model CL-600-2B19 (Regional Jet Series 100 & 440) airplanes and Model CL-600-1A11 (CL-600), CL-600-2A12 (CL-601), and CL-600-2B16 (CL-601-3A, CL-601-3R, and CL-604) series airplanes. That AD requires revising the airplane flight manuals to include a new cold weather operations limitation. That AD resulted from a report that even small amounts of frost, ice, snow, or slush on the wing leading edges or forward upper wing surfaces can cause an adverse change in the stall speeds, stall characteristics, and the protection provided by the stall protection system. The actions specified in that AD are intended to prevent possible loss of control on take-off resulting from even small amounts of frost, ice, snow, or slush on the wing leading edges or forward upper wing surfaces.

Actions Since AD Was Issued

Since we issued that AD, Transport Canada Civil Aviation (TCCA) informed us that there were three incidents in which Model CL-600-2B19 and CL-600-2B16 airplanes experienced uncommanded roll during take-off. TCCA advises that it is necessary to further revise the AFM limitations and procedures for cold weather or icing conditions.

Relevant Service Information

Bombardier has issued the temporary revisions (TRs) listed in the following table. The temporary revisions describe limitations that include tactile inspections for ice during certain weather conditions. The temporary revisions also describe limitations and procedures for use of wing and cowl anti-ice during certain taxiing or take-off conditions, and revised take-off limitations to reduce high-pitch attitudes during rotation. TCCA mandated the service information and issued Canadian emergency airworthiness directives CF-2008-15, dated March 7, 2008, and CF-2008-16, dated March 10, 2008, to ensure the continued airworthiness of these airplanes in Canada.

Temporary revisions
For Bombardier Model— | Use— | Dated— | To the—
CL-600-1A11 (CL-600) airplanes | Canadair Temporary Revision 600/25-1 | March 20, 2008 | Canadair Challenger CL-600-1A11 AFM.
CL-600-1A11 (CL-600) airplanes | Canadair Temporary Revision 600-1/20-1 | March 20, 2008 | Canadair Challenger CL-600-1A11 AFM (Winglets).
CL-600-2A12 (CL-601) airplanes | Canadair Temporary Revision 601/17-1 | March 20, 2008 | Canadair Challenger CL-600-2A12 AFM, PSP 601-1B-1.
CL-600-2A12 (CL-601) airplanes | Canadair Temporary Revision 601/18-1 | March 20, 2008 | Canadair Challenger CL-600-2A12 AFM, PSP 601-1A-1.
CL-600-2A12 (CL-601) airplanes | Canadair Temporary Revision 601/22-1 | March 20, 2008 | Canadair Challenger CL-600-2A12 AFM, PSP 601-1B.
CL-600-2A12 (CL-601) airplanes | Canadair Temporary Revision 601/30-1 | March 20, 2008 | Canadair Challenger CL-600-2A12 AFM.
CL-600-2B16 (CL-601-3A, and CL-601-3R) airplanes | Canadair Temporary Revision 601/29-1 | March 20, 2008 | Canadair Challenger CL-600-2B16 AFM, PSP 601A-1.
CL-600-2B16 (CL-601-3A, and CL-601-3R) airplanes | Canadair Temporary Revision 601/30-1 | March 20, 2008 | Canadair Challenger CL-600-2B16 AFM, PSP 601A-1-1.
CL-600-2B16 (CL-604) airplanes, serial numbers 5301 through 5699 | Bombardier Temporary Revision 604/24-1 | March 20, 2008 | Bombardier Challenger CL-604 AFM, PSP 604-1.
CL-600-2B16 (CL-604) airplanes, serial numbers 5701 and subsequent (might also be referred to by a marketing designation as CL-605) | Bombardier Temporary Revision 605/1-1 | March 20, 2008 | Bombardier Challenger CL-605 AFM, PSP 605-1.
CL-600-2B19 (Regional Jet Series 100 & 440) airplanes | Canadair Temporary Revision RJ/155-3 | March 25, 2008 | Canadair Regional Jet AFM, CSP A-012.

FAA's Determination and Requirements of This AD

These airplanes are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are issuing this AD to supersede AD 2005-04-07. This new AD retains the requirements of the existing AD. This AD also requires revising the AFMs to include revised and additional limitations and procedures specified in the temporary revisions described previously.

Clarification of AD Compliance Time

Due to the degree of urgency associated with the subject unsafe condition, this AD specifies a compliance time of within 7 days after the effective date of this AD to more closely coincide with the time the Canadian airworthiness directives must be accomplished. Canadian airworthiness directive CF-2008-15 specifies a compliance time of within 21 days after March 10, 2008 (the effective date of Canadian airworthiness directive CF-2008-15). Canadian airworthiness directive CF-2008-16 specifies a compliance time of within 21 days after March 12, 2008 (the effective date of Canadian airworthiness directive CF-2008-16).

Differences Between This AD and the Canadian Airworthiness Directives

The Canadian airworthiness directives specify that operators should advise flight crews of the changes introduced by the TRs; and review the “Pilot's Checklist” to ensure that the instructions regarding selection of the wing anti-ice system to “ON,” as specified in the AFM Limitations section, are incorporated. We do not require these actions because there is no method to determine compliance with these actions.

The Canadian airworthiness directives specify that operators should insert a copy of the Canadian airworthiness directive in the AFM, but this AD does not require the insertion. We have determined that this action is unnecessary since all relevant wording is within the required temporary revisions, which are required to be inserted in the AFM.

The Canadian airworthiness directives specify certain temporary revision documents. After the Canadian airworthiness directives were issued, Bombardier issued new TRs that include instructions on the cowl anti-ice. TCCA does not plan to revise its airworthiness directives to incorporate the new TRs. However, it is our practice to refer to the most recent and appropriate service information available in our ADs.

These differences have been coordinated with TCCA.

Interim Action

This is considered to be interim action. TCCA has advised that it currently is developing further actions, such as crew awareness and training with regard to winter operations, that will address the unsafe condition addressed by this AD. Once this information is developed, approved, and available, the FAA might consider additional rulemaking.

FAA's Justification and Determination of the Effective Date

Because of our requirement to promote safe flight of civil aircraft and thus, the critical need to assure safe operation during cold weather (ice/snow conditions) and the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-0408; Directorate Identifier 2008-NM-068-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13979 (70 FR 8025, February 17, 2005) and adding the following new AD:

2008-08-06 Bombardier, Inc (Formerly Canadair): Docket No. FAA-2008-0408; Directorate Identifier 2008-NM-068-AD; Amendment 39-15458.

Effective Date

(a) This AD becomes effective April 21, 2008.

Affected ADs

(b) This AD supersedes AD 2005-04-07.

Applicability

(c) This AD applies to all Bombardier Model CL-600-1A11 (CL-600), CL-600-2A12 (CL-601), CL-600-2B16 (CL-601-3A, CL-601-3R, & CL-604) airplanes, and Model CL-600-2B19 (Regional Jet Series 100 & 440) airplanes, certificated in any category.

Note 1: Some Model CL-600-2B16 (CL-604) airplanes might be referred to by a marketing designation as CL-605.

Unsafe Condition

(d) This AD results from reports of uncommanded roll during take-off. We are issuing this AD to prevent possible loss of control on take-off resulting from even small amounts of frost, ice, snow, or slush on the wing leading edges or forward upper wing surfaces.

Compliance

(e) You are responsible for having the actions required by this AD performed within the compliance times specified, unless the actions have already been done.

Restatement of AD 2005-04-07

Revision to Airplane Flight Manual (AFM)

(f) Within 5 days after February 22, 2005 (the effective date of AD 2005-04-07), revise the applicable Bombardier AFMs, Chapter 2 Limitations—Operating Limitations section, by inserting a copy of the new cold weather operations limitation specified in the Canadair (Bombardier) temporary revisions (TRs) listed in Table 1 of this AD. Thereafter, operate the airplanes per the limitation specified in the applicable TR, except as provided by paragraph (i) of this AD. Accomplishing the actions of paragraph (g) of this AD terminates the requirements of this paragraph.

Table 1.—TRs
Bombardier Model | TR | AFM
CL-600-1A11 (CL-600) series airplanes | 600/21, February 4, 2005 | PSP 600 (US).
CL-600-1A11 (CL-600) series airplanes | 600-1/16, February 4, 2005 | PSP 600-1 (US).
CL-600-2A12 (CL-601) series airplanes | 601/13, February 4, 2005 | PSP 601-1B-1.
CL-600-2A12 (CL-601) series airplanes | 601/14, February 4, 2005 | PSP 601-1A-1.
CL-600-2A12 (CL-601) series airplanes | 601/18, February 4, 2005 | PSP 601-1B.
CL-600-2A12 (CL-601) series airplanes | 601/26, February 4, 2005 | PSP 601-1A.
CL-600-2B16 (CL-601-3A and CL-601-3R) series airplanes | 601/24, February 4, 2005 | PSP 601A-1.
CL-600-2B16 (CL-601-3A and CL-601-3R) series airplanes | 601/25, February 4, 2005 | PSP 601A-1-1.
CL-600-2B16 (CL-604) series airplanes | 604/17, February 4, 2005 | PSP 604-1.
CL-600-2B19 (Regional Jet Series 100 & 440) | RJ/149-1, February 1, 2005 | CSP A-012.

Note 2: When information identical to that in a TR specified in paragraph (f) of this AD has been included in the general revisions of the applicable AFM, the general revisions may be inserted into the AFM, and the TR may be removed from that AFM.

New Requirements of This AD

(g) Within 7 days after the effective date of this AD, revise the applicable sections of the applicable AFM by inserting a copy of the applicable TR listed in Table 2 of this AD. Thereafter, operate the airplanes per the limitation specified in the applicable TR, except as provided by paragraph (i) of this AD. Once the applicable temporary revision required by this paragraph is inserted in the AFM, the applicable revision required by paragraph (f) of this AD must be removed from the AFM.

(h) When information identical to that in a TR specified in paragraph (g) of this AD has been included in the general revisions of the applicable AFM, the general revisions may be inserted into the AFM, and the TR may be removed from that AFM.

Table 2.—Temporary Revisions
For Bombardier Model— | Use— | Dated— | To the—
CL-600-1A11 (CL-600) airplanes | Canadair Temporary Revision 600/25-1 | March 20, 2008 | Limitations and Normal Procedures sections of Canadair Challenger CL-600-1A11 AFM.
CL-600-1A11 (CL-600) airplanes | Canadair Temporary Revision 600-1/20-1 | March 20, 2008 | Limitations and Normal Procedures sections of Canadair Challenger CL-600-1A11 AFM (Winglets).
CL-600-2A12 (CL-601) airplanes | Canadair Temporary Revision 601/17-1 | March 20, 2008 | Limitations and Normal Procedures sections of Canadair Challenger CL-600-2A12 AFM, PSP 601-1B-1.
CL-600-2A12 (CL-601) airplanes | Canadair Temporary Revision 601/18-1 | March 20, 2008 | Limitations and Normal Procedures sections of Canadair Challenger CL-600-2A12 AFM, PSP 601-1A-1.
CL-600-2A12 (CL-601) airplanes | Canadair Temporary Revision 601/22-1 | March 20, 2008 | Limitations and Normal Procedures sections of Canadair Challenger CL-600-2A12 AFM, PSP 601-1B.
CL-600-2A12 (CL-601) airplanes | Canadair Temporary Revision 601/30-1 | March 20, 2008 | Limitations and Normal Procedures sections of Canadair Challenger CL-600-2A12 AFM.
CL-600-2B16 (CL-601-3A, and CL-601-3R) airplanes | Canadair Temporary Revision 601/29-1 | March 20, 2008 | Limitations and Normal Procedures sections of Canadair Challenger CL-600-2B16 AFM, PSP 601A-1.
CL-600-2B16 (CL-601-3A, and CL-601-3R) airplanes | Canadair Temporary Revision 601/30-1 | March 20, 2008 | Limitations and Normal Procedures sections of Canadair Challenger CL-600-2B16 AFM, PSP 601A-1-1.
CL-600-2B16 (CL-604) airplanes, serial numbers 5301 through 5699 | Bombardier Temporary Revision 604/24-1 | March 20, 2008 | Limitations and Normal Procedures sections of Bombardier Challenger CL-604 AFM, PSP 604-1.
CL-600-2B16 (CL-604) airplanes, serial numbers 5701 and subsequent | Bombardier Temporary Revision 605/1-1 | March 20, 2008 | Limitations and Normal Procedures sections of Bombardier Challenger CL-605 AFM, PSP 605-1.
CL-600-2B19 (Regional Jet Series 100 & 440) airplane | Canadair Temporary Revision RJ/155-3 | March 25, 2008 | Limitations and Abnormal Procedures sections and Supplement 15 of Canadair Regional Jet AFM, CSP A-012.

Alternative Methods of Compliance (AMOCs)

(i)(1) The Manager, New York Aircraft Certification Office (ACO) FAA, has the authority to approve AMOCs for this AD, if requested in accordance with the procedures found in 14 CFR 39.19. Send information to ATTN: Bruce Valentine, Aerospace Engineer, Systems and Flight Test Branch, ANE-172, FAA, New York Aircraft Certification Office, 1600 Stewart Avenue, Suite 410, Westbury, New York 11590; telephone (516) 228-7328; fax (516) 794-5531.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(j) Canadian emergency airworthiness directives CF-2008-15, dated March 7, 2008, and CF-2008-16, dated March 10, 2008, also address the subject of this AD.

Material Incorporated by Reference

(k) You must use the applicable temporary revision to the applicable airplane flight manual specified in Tables 3 and 4 of this AD to perform the actions that are required by this AD, unless the AD specifies otherwise.

(1) The Director of the Federal Register approved the incorporation by reference of the documents listed in Table 3 of this AD in accordance with 5 U.S.C. 552(a) and 1 CFR part 51.

(2) On February 22, 2005 (70 FR 8025, February 17, 2005), the Director of the Federal Register approved the incorporation by reference of the documents listed in Table 4 of this AD.

(3) Contact Bombardier, Inc., Canadair, Aerospace Group, P.O. Box 6087, Station Centre-ville, Montreal, Quebec H3C 3G9, Canada, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Table 3.—New Material Incorporated by Reference
Temporary revisions | Date | Airplane flight manual
Canadair Temporary Revision 600/25-1 | March 20, 2008 | Canadair Challenger CL-600-1A11 Airplane Flight Manual.
Canadair Temporary Revision 600-1/20-1 | March 20, 2008 | Canadair Challenger CL-600-1A11 Airplane Flight Manual (Winglets).
Canadair Temporary Revision 601/17-1 | March 20, 2008 | Canadair Challenger CL-600-2A12 Airplane Flight Manual, PSP 601-1B-1.
Canadair Temporary Revision 601/18-1 | March 20, 2008 | Canadair Challenger CL-600-2A12 Airplane Flight Manual, PSP 601-1A-1.
Canadair Temporary Revision 601/22-1 | March 20, 2008 | Canadair Challenger CL-600-2A12 Airplane Flight Manual, PSP 601-1B
Canadair Temporary Revision 601/30-1 | March 20, 2008 | Canadair Challenger CL-600-2A12 Airplane Flight Manual.
Canadair Temporary Revision 601/29-1 | March 20, 2008 | Canadair Challenger CL-600-2B16 Airplane Flight Manual, PSP 601A-1.
Canadair Temporary Revision 601/30-1 | March 20, 2008 | Canadair Challenger CL-600-2B16 Airplane Flight Manual, PSP 601A-1-1.
Bombardier Temporary Revision 604/24-1 | March 20, 2008 | Bombardier Challenger CL-604 Airplane Flight Manual, PSP 604-1.
Bombardier Temporary Revision 605/1-1 | March 20, 2008 | Bombardier Challenger CL-605 Airplane Flight Manual, PSP 605-1
Canadair Temporary Revision RJ/155-3 | March 25, 2008 | Canadair Regional Jet Airplane Flight Manual, CSP A-012.

Table 4.—Previous Material Incorporated by Reference
Canadair (Bombardier) temporary revision | Bombardier airplane flight manual
RJ/149-1, February 1, 2005 | CL-600-2B19 (Regional Jet Series 100 & 440), CSP A-012.
600/21, February 4, 2005 | CL-600-1A11 (CL-600), PSP 600 (US).
600-1/16, February 4, 2005 | CL-600-1A11 (CL-600), PSP 600-1 (US).
601/13, February 4, 2005 | CL-600-2A12 (CL-601), PSP 601-1B-1.
601/14, February 4, 2005 | CL-600-2A12 (CL-601), PSP 601-1A-1.
601/18, February 4, 2005 | CL-600-2A12 (CL-601), PSP 601-1B
601/24, February 4, 2005 | CL-600-2B16 (CL-601-3A and CL-601-3R), PSP 601A-1.
601/25, February 4, 2005 | CL-600-2B16 (CL-601-3A and CL-601-3R), PSP 601A-1-1.
601/26, February 4, 2005 | CL-600-2A12 (CL-601), PSP 601-1A.
604/17, February 4, 2005 | CL-600-2B16 (CL-604), PSP 604-1.

Issued in Renton, Washington, on April 2, 2008.
Dionne Palermo,
Acting Manager, Transport Airplane Directorate, Aircraft Certification Service.

[FR Doc. E8-7592 Filed 4-11-08; 8:45 am]

BILLING CODE 4910-13-P